DEPARTMENT OF HEALTH AND HUMAN SERVICES

National Institutes of Health

Center for Scientific Review; Amended Notice of Meeting

Notice is hereby given of a change in the meeting of the Center for Scientific Review Special Emphasis Panel, April 20, 2006, 3 p.m. to April 20, 2006, 4 p.m., National Institutes of Health, 6701 Rockledge Drive, Bethesda, MD 20892, which was published in the Federal Register on March 30, 2006, 71 FR 16173-16174.

The meeting title has been changed to “Special Topic: Immunology”. The meeting is closed to the public.

Dated: April 12, 2006.
Anna Snouffer,
Acting Director, Office of Federal Advisory Committee Policy.

[FR Doc. 06-3708 Filed 4-18-06; 8:45 am]

BILLING CODE 4140-01-M